DEPARTMENT OF ENERGY

Federal Energy Regulatory Commission

[Docket No. IC24-15-000]

Commission Information Collection Activities (FERC-587); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-587, Land Description: Public Land States/Non-Public Land States, OMB Control Number 1902-0145.

DATES: Comments on the collections of information are due July 23, 2024.

ADDRESSES: You may submit copies of your comments (identified by Docket No. IC24-15-000 and the specific FERC collection number (FERC-587) by one of the following methods:

Electronic filing through http://www.ferc.gov, is preferred.

• Electronic Filing: Documents must be filed in acceptable native applications and print-to-PDF, but not in scanned or picture format.

• For those unable to file electronically, comments may be filed by USPS mail or by other delivery services:

○ Mail via U.S. Postal Service Only: Federal Energy Regulatory Commission, Secretary of the Commission, 888 First Street NE, Washington, DC 20426.

○ All other delivery services: Federal Energy Regulatory Commission, Secretary of the Commission, 12225 Wilkins Avenue, Rockville, MD 20852.

Instructions: All submissions must be formatted and filed in accordance with submission guidelines at https://www.ferc.gov/ferc-online/overview. For user assistance, contact FERC Online Support by email at ferconlinesupport@ferc.gov, or by phone at (866) 208-3676 (toll-free).

Docket: Users interested in receiving automatic notification of activity in this docket or in viewing/downloading comments and issuances in this docket may do so at https://www.ferc.gov/ferc-online/overview.

FOR FURTHER INFORMATION CONTACT: Jean Sonneman may be reached by email at DataClearance@FERC.gov, or telephone at (202) 502-6362.

SUPPLEMENTARY INFORMATION:

Title: FERC-587, Land Description: Public Land States/Non-Public Land States.

OMB Control No.: 1902-0145.

Type of Request: Three-year extension of the FERC-587 information collection requirements with no changes to the current reporting requirements.

Abstract: Section 24 of the Federal Power Act (FPA) ¹ requires the Commission to conduct this collection of information, which pertains to applications proposing hydropower projects, or changes to existing hydropower projects, within “lands of the United States.” FERC Form 587 ² consolidates the required information, including a description of the applicable U.S. lands and identification of hydropower project boundary maps associated with the applicable U.S. lands. An applicant must send FERC Form 587 both to the Commission and to the Bureau of Land Management (BLM) ³ state office where the project is located. The information consolidated in FERC Form 587 facilitates the reservation of U.S. lands as hydropower sites and the withdrawal of such lands from other uses.

¹ 16 U.S.C. 818.

² Form 587 can be found at https://cms.ferc.gov/media/ferc-587.

³ The Bureau of Land Management is within the U.S. Department of the Interior.

Type of Respondents: Applicants proposing hydropower projects, or changes to existing hydropower projects, within lands of the United States.

Estimate of Annual Burden: The Commission estimates the average annual burden ⁴ and cost ⁵ for this information collection as follows.

⁴ Burden is defined as the total time, effort, or financial resources expended by persons to generate, maintain, retain, or disclose or provide information to or for a Federal agency. For further explanation of what is included in the information collections burden, reference 5 CFR 1320.3.

⁵ The Commission staff estimates that the average respondent for FERC-587 is similarly situated to the Commission, in terms of salary plus benefits. Based on FERC's current annual average of $207,786 (for salary plus benefits), the average hourly cost is $100/hour.

A. Number of respondents | B. Annual number of responses per respondent | C. Total number of responses (column A × column B) | D. Average hour burden & cost per response | E. Total annual burden hours & total annual cost (column C × column D) | F. Cost per respondent ($) (column E ÷ column A)
70 | 1 | 70 | 1 hour; $100.00 | 70 hours; $7,000 | $100.00

Comments: Comments are invited on: (1) whether the collections of information is necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

Dated: May 17, 2024.
Debbie-Anne A. Reese,
Acting Secretary.

[FR Doc. 2024-11386 Filed 5-23-24; 8:45 am]

BILLING CODE 6717-01-P